FEDERAL RETIREMENT THRIFT INVESTMENT

Board Member Meeting

77 K Street NE, 10th Floor, Washington, DC 20002

July 22, 2019, 8:30 a.m.

Open Session

1. Approval of the June 24, 2019 Board Meeting Minutes

2. Monthly Reports

(a) Participant Activity Report

(b) Legislative Report

3. Quarterly Reports

(c) Investment Performance

(d) Budget Review

(e) Audit Status

4. Withdrawal Project Update

Closed Session

Information covered under 5 U.S.C. 552b (c)(6), (c)(9)(B), and c(10).

Contact Person for More Information: Kimberly Weaver, Director, Office of External Affairs, (202) 942-1640.

Dated: July 12, 2019.
Megan Grumbine,
General Counsel, Federal Retirement Thrift Investment Board.

[FR Doc. 2019-15182 Filed 7-16-19; 8:45 am]

BILLING CODE 6760-01-P